DEPARTMENT OF THE INTERIOR

Fish and Wildlife Service

Notice of Availability of the Higgins' Eye Pearlymussel (Lampsilis higginsii) Draft Revised Recovery Plan for Review and Comment

AGENCY: Fish and Wildlife Service, Interior.

ACTION: Notice of document availability.

SUMMARY: The U.S. Fish and Wildlife Service (Service) announces availability for public review of the draft revised recovery plan for the Higgins' eye pearlymussel (Lampsilis higginsii), a species that is federally listed as endangered under the Endangered Species Act of 1973 (Act). The purpose of this plan is to recover this species so that it can be removed from the list of Threatened and Endangered Species. This species occurs in the Mississippi River and tributaries to the Mississippi River in Illinois, Iowa, Minnesota, Missouri, and Wisconsin. The Service solicits review and comment from the public on this draft plan.

DATES: Comments on the draft recovery plan must be received on or before October 14, 2003.

ADDRESSES: Persons wishing to review the draft recovery plan may obtain a copy by contacting the Field Supervisor, U.S. Fish and Wildlife Service, Ecological Services Field Office, 4101 E. 80th St., Bloomington, MN 55425 (telephone (612) 725-3548) or by accessing the following Web site: http://midwest.fws.gov/Endangered.

FOR FURTHER INFORMATION CONTACT: Mr. Phil Delphey at the above address, or telephone at (612) 725-3548 ext. 206. TTY users may contact Mr. Delphey through the Federal Relay Service at (800) 877-8339.

SUPPLEMENTARY INFORMATION:

Background

Restoring an endangered or threatened animal or plant to the point where it is again a secure self-sustaining member of its ecosystem is a primary goal of the Service's endangered species program. To help guide the recovery effort, the Service is working to prepare recovery plans for most of the federally listed threatened and endangered species native to the United States. Recovery plans describe actions considered necessary for conservation of the species, establish criteria for reclassification and delisting, and provide estimates of the time and costs for implementing the recovery measures needed.

The Act requires the development of recovery plans for listed species unless such a plan would not promote the conservation of a particular species. Section 4(f) of the Act, as amended in 1988, requires public notice and opportunity for public review and comment be provided during recovery plan development. The Service will consider all information presented during a public comment period before approval of each new or revised recovery plan. The Service and other Federal agencies will also take these comments into consideration in the course of implementing approved recovery plans.

Higgins' eye pearlymussel is currently listed as endangered. Studies before 1993 indicated healthy populations of Higgins' eye in the Upper Mississippi River drainage, with no apparent significant declines in its distribution or abundance. In fact, new information since completion of the first recovery plan in 1983 extended its known range by 180 river-miles. There was concern, however, that a major flood in 1993 and the infestation of the Mississippi River by the non-native zebra mussel (Dreissena polymorpha) may have posed serious threats to the continued existence of Higgins' eye. In response to these threats and information, the Service convened a recovery team to review the status of the species and to revise the initial recovery plan, if necessary. The team commissioned a review of all research conducted on the species since 1980 and a survey of all sites designated as Essential Habitat Areas in the 1983 recovery plan. During the development of this revised recovery plan, new information came forward that suggested a significant impact of zebra mussels on Higgins' eye, and the team believes there is now a significant risk that the distribution and abundance of this species will be severely compromised.

The initial Higgins' Eye Pearlymussel Recovery Plan listed seven locations as primary habitats (called Essential Habitat Areas in this document) and nine locations as potential secondary habitats. This revised plan includes 10 Essential Habitat Areas—6 in the Mississippi River between river-miles 489 and 656, 1 in the Wisconsin River, and 3 in the St. Croix River, which empties into the Mississippi River at river-mile 811. Higgins' eye also occurs elsewhere in the Mississippi River. This revised plan recommends that surveys be conducted in several specific areas to better describe other potentially important habitats and also outlines specific criteria for evaluating additional areas as essential habitat. The plan recommends the development of a uniform protocol for collecting information on populations of Higgins' eye. Use of this protocol will allow for ongoing evaluation of the list of Essential Habitat Areas and progress towards recovery.

The removal of zebra mussels in a manner and scale necessary to benefit Higgins' eye is not currently feasible. Therefore, the plan focuses on developing methods to prevent new infestations, monitoring zebra mussels at Essential Habitat Areas, and developing and implementing contingency plans to alleviate impacts to infested populations. Based on recent activities, the latter may consist largely of removing Higgins' eye from areas where zebra mussels pose an imminent threat and releasing them into suitable habitats within their historical range where zebra mussels are not an imminent threat. Cleaning fouled adults in situ and artificial propagation and release are also currently being implemented in an attempt to alleviate the effects of zebra mussels on the conservation of Higgins' eye.

Although zebra mussels are currently the most important threat to Higgins' eye, construction activities and environmental contaminants may also pose significant threats. Therefore, the U.S. Army Corps of Engineers and other agencies must continue to assess and limit the potential impacts of their actions on Higgins' eye. The plan also outlines tasks needed to improve our understanding of the potential importance that contaminants play in the conservation of Higgins' eye and calls on the U.S. Coast Guard, Environmental Protection Agency, and other agencies to take actions to minimize the potential impacts of toxic spills.

The goal of this plan is to provide a framework for the recovery of the Higgins' eye pearlymussel so that protection by the Act is no longer necessary and the species can be considered for removal from the list of Endangered and Threatened Wildlife and Plants (50 CFR part 17). Higgins' eye may be considered for reclassification from endangered to threatened when at least five identified Essential Habitat Areas contain reproducing, self-sustaining populations of Higgins' eye that are not threatened by zebra mussels. Delisting Higgins' eye requires that populations of Higgins' eye in at least five Essential Habitat Areas are reproducing, self-sustaining, not threatened by zebra mussels, and are sufficiently secure to assure long-term viability of the species.

Public Comments Solicited

The Service solicits written comments on the recovery plan described. All comments received by the date specified will be considered prior to approval of the plan. Written comments and materials regarding the plan should be sent to the Field Supervisor, Ecological Services Field Office (see ADDRESSES section). Comments received will be available for public inspection by appointment during normal business hours.

Authority: The authority for this action is section 4(f) of the Endangered Species Act, 16 U.S.C. 1533(f).

Dated: July 31, 2003.
Charles M. Wooley,
Assistant Regional Director, Ecological Services, Region 3.

[FR Doc. 03-20830 Filed 8-14-03; 8:45 am]

BILLING CODE 4310-55-P